NATIONAL ARCHIVES AND RECORDS ADMINISTRATION

Notice of Establishment

The Archivist of the United States has determined that the establishment of the Advisory Committee on Electronic Records Archives is necessary and is in the public interest in connection with the President's Management Agenda's e-government initiatives. This committee will comply with the provisions of the Federal Advisory Committee Act, as amended (5 U.S.C. Appendix 2).

This Committee shall advise the Archivist of the United States on technical, mission, and service issues related to the Electronic Records Archives (ERA). It will advise and make recommendations to the Archivist on issues related to the development, implementation, and use of the ERA system.

The Committee will be composed of not more that 20 voting members considered having particular expertise, knowledge and experience in electronic records. Members will be appointed by the Archivist of the United States.

Unless renewed by appropriate action prior to its expiration, the Charter for the Advisory Committee on the Electronic Records Archives will expire two years from the date of establishment.

Dated: August 17, 2005.
Mary Ann Hadyka,
Committee Management Officer.

[FR Doc. 05-16786 Filed 8-23-05; 8:45 am]

BILLING CODE 7515-01-P